ENVIRONMENTAL PROTECTION AGENCY

40 CFR Part 52

[R04-OAR-2005-SC-0001, R04-OAR-2005-GA-0001-200516; FRL-7917-9]

Approval and Promulgation of Air Quality Implementation Plans; South Carolina and Georgia; Attainment Demonstration for the Appalachian, Catawba, Pee Dee, Waccamaw, Santee Lynches, Berkeley-Charleston-Dorchester, Low Country, Lower Savannah, Central Midlands, and Upper Savannah Early Action Compact Areas

AGENCY: Environmental Protection Agency (EPA).

ACTION: Proposed rule.

SUMMARY: The EPA is proposing to approve revisions to the State Implementation Plans (SIPs) submitted by the South Carolina Department of Health and Environmental Control (SC DHEC) and Georgia Environmental Protection Division (EPD) on December 31, 2004. These revisions are submitted pursuant to the Early Action Compact (EAC) Protocol ¹ and will result in emission reductions needed to attain and maintain the 8-hour ozone National Ambient Air Quality Standard (NAAQS) in the Appalachian, Catawba, Pee Dee, Waccamaw, Santee Lynches, Berkeley-Charleston-Dorchester, Low Country, Lower Savannah, Central Midlands, and Upper Savannah EAC areas. Only the Lower Savannah EAC area has counties in both South Carolina and Georgia; for the purposes of this document, however, the above described EAC areas will be collectively referred to as the “South Carolina—Georgia EAC Areas.” EPA is proposing approval of the photochemical modeling used by South Carolina and Georgia to support the attainment demonstration of the 8-hour ozone standard within these areas. The proposed revisions further incorporate the local control measures in the South Carolina—Georgia EAC Areas, a new regulation, 61-62.5 Standard No. 5.2, Control of Oxides of Nitrogen (NOX) and revisions to Regulation 61-62.2, Prohibition of Open Burning.

¹ The EAC Protocol can be found at http://www.epa.gov/air/eac/ and in Regional Materials in Edocket (RME) ID No. R04-OAR-2005-SC-0001 or R04-OAR-2005-GA-0001 (see the ADDRESSES section of this notice for further information on RME).

DATES: Comments must be received on or before June 27, 2005.

ADDRESSES: Submit your comments, identified by Regional Material in EDocket (RME) ID No. R04-OAR-2005-SC-0001 for any comments regarding the South Carolina submittal or ID No. R04-OAR-2005-GA-0001 for any comments regarding the Georgia submittal, by one of the following methods:

1. Federal eRulemaking Portal: http://www.regulations.gov. Follow the on-line instructions for submitting comments.

2. Agency Web site: http://docket.epa.gov/rmepub/ RME, EPA's electronic public docket and comment system, is EPA's preferred method for receiving comments. Once in the system, select “quick search,” then key in the appropriate RME Docket identification number. Follow the on-line instructions for submitting comments.

3. E-mail: ward.nacosta@epa.gov.

4. Fax: 404-562-9019.

5. Mail: “R04-OAR-2005-SC-0001” or “R04-OAR-2005-GA-0001”, Regulatory Development Section, Air Planning Branch, Air, Pesticides and Toxics Management Division, U.S. Environmental Protection Agency, Region 4, 61 Forsyth Street, SW., Atlanta, Georgia 30303-8960.

6. Hand Delivery or Courier: Deliver your comments to: Nacosta C. Ward, Regulatory Development Section, Air Planning Branch, Air, Pesticides and Toxics Management Division, 12th floor, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding Federal holidays.

Instructions: Direct your comments to RME ID No. R04-OAR-2005-SC-0001. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through RME, regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Regulatory Development Section, Air Planning Branch, Air, Pesticides and Toxics Management Division, U.S. Environmental Protection Agency, Region 4, 61 Forsyth Street, SW., Atlanta, Georgia 30303-8960. EPA requests that if at all possible, you contact the contact listed in the FOR FURTHER INFORMATION CONTACT section to schedule your inspection. The Regional Office's official hours of business are Monday through Friday, 8:30 a.m. to 4:30 p.m., excluding federal holidays.

FOR FURTHER INFORMATION CONTACT: Nacosta C. Ward, Regulatory Development Section, Air Planning Branch, Air, Pesticides and Toxics Management Division, U.S. Environmental Protection Agency, Region 4, 61 Forsyth Street, SW., Atlanta, Georgia 30303-8960. The telephone number is (404) 562-9140. Ms. Ward can also be reached via electronic mail at ward.nacosta@epa.gov

SUPPLEMENTARY INFORMATION: Throughout this document, wherever “we,” “our,” and “us” is used, we mean EPA.

Outline

I. What action are we proposing?

II. What is a SIP?

III. What is ozone and the purpose of the 8-hour ozone standard?

IV. What is an EAC?

V. What are the South Carolina-Georgia EAC Areas and their respective 8-hour ozone designations?

VI. How is attainment demonstrated for the 8-hour standard with a photochemical model?

VII. What measures are included in this EAC SIP submittal?

VIII. What happens if the area does not meet the EAC commitments or milestones?

IX. Why are we proposing to approve this EAC SIP submittal?

X. Proposed Action

XI. Statutory and Executive Order Reviews

I. What Action Are We Proposing?

Today we are proposing to approve revisions to the South Carolina and Georgia SIPs under sections 110 and 116 of the Clean Air Act (“CAA” or “the Act”). These revisions demonstrate attainment and maintenance of the 8-hour ozone standard, 0.08 parts per million (ppm),² within the Appalachian, Catawba, Pee Dee, Waccamaw, Santee Lynches, Berkeley-Charleston-Dorchester, Low Country, Lower Savannah, Central Midlands, and Upper Savannah EAC areas (collectively referred to as the South Carolina-Georgia EAC Areas) by 2007, and incorporate the control measures developed by these EACs into the South Carolina and Georgia SIPs. The South Carolina-Georgia EACs are agreements between the states, local governments, and EPA. The intent of these agreements is to reduce ozone pollution and thereby attain and maintain the 8-hour ozone standard by 2007, sooner than required by CAA for areas designated nonattainment. Section VII of this proposal describes the control measures that will be implemented within the South Carolina-Georgia EAC Areas.

² The 8-hour ozone standard was promulgated on July 18, 1997 (62 FR 38856).

II. What Is a SIP?

The “SIP” is the State Implementation Plan required by section 110 of the CAA and its implementing regulations. In essence, the SIP is a set of air pollution regulations, control strategies, and technical analyses developed by the state, to ensure that the state meets the National Ambient Air Quality Standards (NAAQS). Once included in the SIP, these regulations, strategies, and analyses are federally enforceable by EPA. The NAAQS are established under section 109 of the Act and they currently address six criteria pollutants: carbon monoxide, nitrogen dioxide, ozone, lead, particulate matter, and sulfur dioxide. These SIPs can be extensive, containing state regulations or other enforceable documents and supporting information such as emission inventories, monitoring networks, and modeling demonstrations. Discussed in greater detail below, SIP revisions relating to attainment of the 8-hour ozone standard by South Carolina and Georgia submitted to EPA on December 31, 2004, and the contents of the EACs are now being proposed.

III. What Is Ozone and the Purpose of the 8-hour Ozone Standard?

Ozone is formed by a series of chemical reactions involving nitrogen oxides (NOX), the result of combustion processes, and reactive organic gases, also termed volatile organic compounds (VOCs). NOX and VOCs are emitted into the air through many sources such as vehicles, power plants and other industrial facilities. Ozone and its precursors have many adverse effects on human health and can cause the following: irritation of the respiratory system, reduction of lung function (making it more difficult to breathe), aggravation of asthma, inflammation and damage to the lining of the lungs, and an increase in the risk of hospital admissions and doctor visits for respiratory problems. In order to reduce ozone it is necessary to reduce NOX and VOCs, ozone precursors. Consistent with the Act, ozone reductions are achieved by establishing NAAQS, such as the 8-hour ozone standard, and implementing the measures necessary to reduce ozone and its precursors. In the April 30, 2004, (69 FR 23858), Federal Register document entitled “Air Quality Designations and Classifications for the 8-Hour Ozone National Ambient Air Quality Standards; Early Action Compact Areas with Deferred Effective Dates,” EPA designated every county in the United States unclassifiable/attainment or nonattainment. Generally, when areas are designated nonattainment, they must put measures in place that will control and maintain ozone concentrations at healthy levels; areas designated as attainment must also develop maintenance plans to ensure ozone concentrations do not increase over time to unhealthy levels. The EAC program involves a commitment by areas close to attainment of the ozone standard to achieve clean air sooner. The areas' commitment is demonstrated by implementing control measures to achieve attainment earlier than mandated by the 8-hour ozone NAAQS and the Clean Air Act. The EAC areas designated nonattainment, but were able to meet the requirements of the EAC Protocol currently have a deferral of their nonattainment designation until September 30, 2005.

IV. What Is an EAC?

An “EAC” is an “Early Action Compact.” This is an agreement between a State, local governments, and EPA to implement measures not necessarily required by the CAA in order to achieve cleaner air as soon as possible. Communities close to or exceeding the 8-hour ozone standard that have elected to enter into an EAC have started reducing air pollution at least two years sooner than required by the Act. In many cases, these reductions will be achieved by local air pollution control measures not otherwise mandated under the Act. The program was designed for areas that approach or monitor exceedances of the 8-hour standard, but are in attainment for the 1-hour ozone standard. The 1-hour ozone standard will be revoked as of June 15, 2005 in most areas. It will not be revoked for previous 1-hour nonattainment areas that are 8-hour EAC areas, such as the Nashville, Tennessee and Greensboro-Winston Salem-High Point, North Carolina 1-hour area (the Triad 8-hour EAC area).³ These areas will continue to implement transportation conformity requirements related to the 1-hour ozone standard. The 1-hour ozone transportation conformity requirements will no longer be in effect one year after the 8-hour ozone attainment designation if the areas are successful in achieving attainment through implementation of the EAC. If any EAC area is unsuccessful in attaining the 8-hour ozone NAAQS through the EAC process, it will be subject to the 8-hour ozone transportation conformity requirements one year after the nonattainment designation becomes effective.

³ Notably, the counties included in the 8-hour EAC area may not directly correspond with all the counties included in the previous 1-hour area for the similar geographic area.

The initial choice to enter into an EAC was voluntary on behalf of the local officials and State air quality officials. EPA believes that early planning and implementation of control measures that improve air quality will likely accelerate protection of public health. The EAC program allows participating State and local entities to make decisions that will accelerate meeting the new 8-hour ozone standard using local pollution control measures in addition to federally mandated measures. While the choice of entering into an EAC was voluntary, all measures adopted as part of the EAC are now being proposed for incorporation into the SIP and will be mandatory and federally enforceable.

In Region 4, EPA initially received 22 requests to enter into EACs in December 2002, including 100 counties in four states. Currently, there are 17 areas and 85 counties included in the EAC program in four states. Of those 17, only eight areas received a deferral of their nonattainment designation. Five of the eight areas that have a deferred nonattainment designation are now attaining the 8-hour ozone standard and modeling attainment into the future. Consistent with EPA's EAC Protocol, states with communities participating in the EAC program had to submit plans for meeting the 8-hour ozone standard by December 31, 2004, rather than June 15, 2007, the CAA deadline for all other areas not meeting the standard. The EAC Protocol further requires communities to develop and implement air pollution control strategies, account for emissions growth and demonstrate attainment by 2007 and maintenance for at least five years of the 8-hour ozone standard. Greater details of the EAC program are explained in EPA's December 16, 2003, (68 FR 70108) proposed Federal Register document entitled “Deferral of Effective Date of Nonattainment Designations for 8-hour Ozone National Ambient Air Quality Standards for Early Action Compact Areas.”

On December 20, December 27, and December 31, 2002, South Carolina submitted signed EACs for the South Carolina-Georgia EAC Areas (see Section I). Georgia EPD submitted materials supporting the Lower Savannah EAC Area on December 31, 2002. The EACs were signed by representatives of the local communities, State air quality officials in both Georgia and South Carolina, and the Regional Administrator. The South Carolina and Georgia EAC area designations are discussed further in Section V of today's proposal. To date, the South Carolina-Georgia EAC Areas have met all EAC milestones and, as long as EAC areas continue to meet the agreed upon milestones, the nonattainment designations will be deferred until April 15, 2008. At that time, EAC areas with air quality monitoring data showing attainment for the years 2005-2007 that have met all compact milestones will be designated attainment.

V. What Are the South Carolina-Georgia EAC Areas and Their Respective 8-hour Ozone Designations?

In April 2004, EPA designated areas as nonattainment for the 8-hour ozone NAAQS based upon air quality monitoring data during the 2001-2003 ozone seasons. On April 30, 2004, (69 FR 23858) the EPA published a Final Rule in the Federal Register designating the following EAC 8-hour ozone nonattainment-deferred and unclassifiable/attainment areas in South Carolina and Georgia:

South Carolina-Georgia EAC 8-hour Ozone Designations
EAC areas | EAC 8-hour ozone designation
Appalachian Area:
Anderson County | Nonattainment-deferred.
Cherokee County | Unclassifiable/Attainment.
Greenville County | Nonattainment-deferred.
Oconee County | Unclassifiable/Attainment.
Pickens County | Unclassifiable/Attainment.
Spartanburg County | Nonattainment-deferred.
Catawba Area:
Chester County | Unclassifiable/Attainment.
Lancaster County | Unclassifiable/Attainment.
Union County | Unclassifiable/Attainment.
York County (partial) ᵃ | Unclassifiable/Attainment.
Pee Dee Area:
Chesterfield County | Unclassifiable/Attainment.
Darlington County | Unclassifiable/Attainment.
Dillion County | Unclassifiable/Attainment.
Florence County | Unclassifiable/Attainment.
Marion County | Unclassifiable/Attainment.
Marlboro County | Unclassifiable/Attainment.
Waccamaw Area:
Georgetown County | Unclassifiable/Attainment.
Horry County | Unclassifiable/Attainment.
Williamsburg County | Unclassifiable/Attainment.
Santee Lynches Area:
Clarendon County | Unclassifiable/Attainment.
Kershaw County | Unclassifiable/Attainment.
Lee County | Unclassifiable/Attainment.
Sumter County | Unclassifiable/Attainment.
Berkeley-Charleston-Dorchester (B-C-D) Area:
Berkeley County | Unclassifiable/Attainment.
Charleston County | Unclassifiable/Attainment.
Dorchester County | Unclassifiable/Attainment.
Low Country Area:
Beaufort County | Unclassifiable/Attainment.
Colleton County | Unclassifiable/Attainment.
Hampton County | Unclassifiable/Attainment.
Jasper County | Unclassifiable/Attainment.
Lower Savannah Area (GA-SC):
Aiken County, SC | Unclassifiable/Attainment.
Allendale County, SC | Unclassifiable/Attainment.
Bamburg County, SC | Unclassifiable/Attainment.
Barnwell County, SC | Unclassifiable/Attainment.
Calhoun County, SC | Unclassifiable/Attainment.
Orangeburg County, SC | Unclassifiable/Attainment.
Columbia County, GA | Unclassifiable/Attainment.
Richmond County, GA | Unclassifiable/Attainment.
Central Midlands Area:
Fairfield County | Unclassifiable/Attainment.
Lexington County | Nonattainment-deferred.
Newberry County | Unclassifiable/Attainment.
Richland County | Nonattainment-deferred.
Upper Savannah Area:
Abbeville County | Unclassifiable/Attainment.
Edgefield County | Unclassifiable/Attainment.
Greenwood County | Unclassifiable/Attainment.
Laurens County | Unclassifiable/Attainment.
Saluda County | Unclassifiable/Attainment.
ᵃ the portion of York not designated nonattainment for 8-hour ozone in the Charlotte nonattainment area.

Currently, eight out of the ten South Carolina-Georgia EAC Areas do not have deferred nonattainment designations and are participating in the EAC process to demonstrate their support of cleaner air statewide. There are only two areas, Appalachian and Central Midlands, in South Carolina, with nonattainment-deferred designations that are participating in the EAC program. Those counties in the Appalachian, Anderson, Greenville, and Spartanburg, South Carolina areas are now attaining the 8-hour ozone standard based on 2002-2004 air quality monitoring data. Those counties in the Central Midlands, Lexington and Richland, South Carolina areas are very close to the standard and are modeling attainment by 2007. To date, the South Carolina-Georgia EAC Areas have met all EAC milestones and, as long as EAC areas continue to meet the agreed upon milestones, the impact of the nonattainment designations will be deferred until April 15, 2008. At that time, EPA will evaluate the 8-hour ozone designations for these areas.

VI. How Is Attainment Demonstrated for the 8-hour Standard With a Photochemical Model?

In developing its SIP, an area will typically evaluate necessary control measures using modeling programs to determine how that area can meet and maintain the NAAQS. This process is no different for EAC areas which used modeling and screening tests to evaluate attainment and maintenance of the 8-hour ozone standard. The attainment tests use ambient air quality monitored design values with model-generated ozone concentration data. The test is applied at each monitor in the area as well as applicable unmonitored modeling sites in the EAC area. A future year design value is developed by multiplying the ratio of the future year to current year model-predicted 8-hour daily maximum ozone concentrations by a current design value. The current design value is developed from air quality monitored data. Under EPA regulations at 40 CFR Part 50, the 8-hour ozone standard is attained when the 3-year average of the annual fourth-highest daily maximum 8-hour average ambient ozone concentrations is less than or equal to 0.08 ppm. (See 69 FR 23857, April 30, 2004, for further information). If modeled predicted future site-specific design values are less than 0.085 ppm at each monitor site, the test is passed.⁴

⁴ Although the 8-hour ozone standard is 0.08 ppm, monitored values less than 0.085 are rounded down to 0.08 whereas monitored values equal to or greater than 0.085 are rounded up, and considered to be an exceedance of the standard. The 8-hour ozone standard can also be expressed in parts per billion and EPA often refers to monitors meeting the standard if they monitor values less than 85 ppb.

A. How Was Attainment Demonstrated Through the South Carolina EAC Modeling?

The South Carolina modeling was developed consistent with the EPA draft modeling guidance and EAC Protocol guidance that was available when the modeling was conducted. ⁵ Note, the names of the areas used in the modeling for attainment differ from the names of the EAC areas. The South Carolina—Georgia EAC Areas and their modeled area counterparts are presented in Table 1.

⁵ The EPA issued guidance on the air quality modeling that is used to demonstrate attainment with the 8-hour ozone NAAQS. See U.S. EPA, (1999), Draft Guideline on the Use of Models and Other Analysis in Attainment Demonstrations for the 8-Hour Ozone NAAQS, EPA-454/R-99-00413, (May 1999). A copy may be found on EPA's Web site at http://www.epa.gov/ttn/scram/ (file name: “DRAFT8HR”).

EPA, June, 2002. “Protocol for Early Action Compacts Designed to Achieve and Maintain the 8-Hour Ozone Standard”. Located at http://www.epa.gov/ttn/naaqs/ozone/eac/.

“Appendix W to 40 CFR Part 51: Guideline on Air Quality Models.” Located at http://www.epa.gov/scram001/ (file name: “Appendix W”).

Table 1.—Naming Convention for EAC Areas and Modeled Areas
EAC area | Modeled areas with monitors
Appalachian | Anderson/Greenville/Spartanburg.
Catawba | Rock Hill.
PeeDee | Darlington/Florence.
Waccamaw | Coastal Sites.
Santee Lynches | Area without monitors.
Berkeley, Charleston, Dorchester | Coastal Sites without monitors.
Low Country | Coastal Sites.
Lower Savannah | Aiken/Augusta.
Central Midlands | Columbia.
Upper Savannah | Anderson/Greenville/Spartanburg.

Although EPA guidance recommends use of a 1999 inventory for EAC areas, South Carolina's use of a 1998 inventory was allowed for a number of reasons. Most notably, the 1998 emissions inventory is considered more representative and conservative than the1999 emissions inventory. Other reasons are discussed in the South Carolina Technical Support Document (TSD). In evaluating South Carolina's request to use 1998 data, the State presented a comparison between the 1999 National Emissions Inventory and the 1998 State inventory. Although a discrepancy existed in the estimation of the area source emissions, the State was able to explain how the conclusions for attainment would not be compromised with the use of the 1998 emissions. Therefore, the State's analysis indicates that use of the 1998 inventory is acceptable for demonstrating attainment in EAC areas. (The TSDs to this document contain a more detailed discussion of this issue and other areas of the technical demonstration for attainment and maintenance.)

Using 1998 as its “current year,” the South Carolina modeling predicted that the State would attain the 8-hour ozone standard at all EAC area monitors for the future years of 2007, 2012 and 2017. The higher of the 1997-1999 and 2001-2003 design values were used in the application of the modeled and screening tests for the EAC modeling. The future-predicted design values using the South Carolina modeling are presented in Table 2. South Carolina—Georgia EAC Areas were modeling attainment without incorporating the local EAC measures into the modeling. Therefore, these additional measures, that will be required by the South Carolina and Georgia SIPs, will provide additional air quality benefits beyond what was presented in this modeling.

Table 2.—South Carolina—Georgia EAC Future Design Values (ppb)
Area/county | Monitor | 2007 DVF (ppb) | 2012 DVF (ppb) | 2017 DVF (ppb)
Aiken/Augusta EAC Area
Aiken | Jackson | 72 | 72 | 70
Barnwell | Barnwell | 71 | 71 | 69
Edgefield | Trenton | 72 | 69 | 67
Richmond, GA | Augusta | 77 | 75 | 74
Anderson/Greenville/Spartanburg EAC Area
Abbeville | Due West | 78 | 69 | 66
Anderson | Powdersville | 84 | 80 | 78
Cherokee | Cowpens | 80 | 78 | 76
Oconee | Long Creek | 74 | 72 | 71
Pickens | Clemson | 80 | 77 | 75
Spartanburg | North Spartanburg Fire Station | 81 | 80 | 79
Union | Delta | 73 | 67 | 64
Columbia EAC Area
Richland | Parklane | 79 | 77 | 76
Richland | Sandhill | 80 | 77 | 75
Richland | Congaree Bluff | 61 | 59 | 58
Darlington/Florence EAC Area
Darlington | Pee Dee | 77 | 74 | 73
Rock Hill EAC Area
Chester | Chester | 82 | 77 | 75
York | York | 78 | 74 | 73
Coastal Sites EAC Area
Berkeley | Bushy Park | 69 | 67 | 66
Charleston | Army Reserve | 66 | 64 | 63
Charleston | Cape Romain | 71 | 68 | 69
Colleton | Ashton | 68 | 66 | 64
Williamsburg | Indiantown | 61 | 61 | 60

B. How Was Supplemental Modeling Developed by Georgia Used in the Demonstration for Attainment in South Carolina?

The Lower Savannah (Aiken/Augusta) EAC area is a multi-state area that includes counties in both Georgia and South Carolina. This area was designated attainment for the 8-hour ozone standard on June 15, 2004. Both states independently developed 8-hour ozone attainment demonstrations for the Aiken/Augusta EAC area. The Georgia modeling was developed consistent with existing EPA modeling and EAC Protocol guidance and is discussed in greater detail in the Georgia TSD. In Georgia, the air quality modeled concentrations were developed using the Community Multiscale Air Quality (CMAQ), a regional- and urban-scale, nested-grid photochemical air quality model. A current year of 2000 was modeled for the attainment test. Georgia's modeling demonstrated attainment of the 8-hour ozone standard for the future years of 2007 and 2012 for the Lower Savannah (Aiken/Augusta) EAC area using current design values from 1999-2001. This modeling by Georgia strengthens the results of South Carolina's modeling because the future year results are consistent in concluding attainment and maintenance of the 8-hour ozone standard. A comparison of the future-predicted design values as independently developed in the South Carolina and Georgia modeling are presented in Table 3.

Table 3.—Aiken/Augusta Future Design Values (ppb) From South Carolina and Georgia
Augusta EAC area county | 2007 DVF (ppb) | 2012 DVF (ppb)
Richmond, GA
SC results | 77 | 75
GA results | 77 | 73
Aiken, SC
SC results | 72 | 72
GA results | 75 | 72
Edgefield, SC
SC results | 72 | 69
GA results | 70 | 66
Barnwell, SC
SC results | 71 | 71
GA results | 71 | 70

C. What Is the Maintenance for Growth Plan for the EAC Areas?

In addition to control measures designed to attain and maintain the 8-hour ozone standard, South Carolina's EAC SIP submittal also includes a comprehensive maintenance plan. Specific details on the maintenance plan are contained in the South Carolina EAC SIP. In summary, South Carolina proposes to implement a maintenance plan similar to the requirements for section 175A of the Clean Air Act, which requires maintenance plans to be submitted for all areas redesignated from nonattainment to attainment. EPA's EAC Protocol required demonstration of maintenance of the 8-hour ozone standard through 2012; South Carolina's maintenance plan models attainment through 2017. The South Carolina EAC maintenance plan includes the following:

• An attainment demonstration for the 2007-2017 period. Future design values developed through modeling for 2007, 2012 and 2017 that are below 85 ppb at all monitors in the EAC areas; Table 2 presents these attainment test results.

• A commitment for a mid-point evaluation in 2012.

• A commitment to develop the maintenance plan for a second 10-year period for 2017-2027 and a schedule for developing that plan including emission inventories and air quality modeling:

• December 2004—SC DHEC submits EAC SIP, covering both attainment date of 2007 and first 10-year maintenance period through 2017.

• April 2005—SC DHEC and EAC areas implement EAC measures.

• December 2005—First annual tracking report is submitted to EPA.

• December 2006—Second annual tracking report is submitted to EPA.

• December 2007—Attainment date.

• December 2007—Third annual tracking report is submitted to EPA.

• April 2008—EPA designates area attainment for the 8-hour standard providing areas have 3 years of quality assured data showing attainment.

• December 2008—Fourth annual tracking report is submitted to EPA and continues for each year thereafter through the end of the maintenance period.

• January 2013—SC DHEC begins work on 10-year maintenance plan update.

• December 2015—Submits 10-year maintenance plan update.

• December 2027—20-year maintenance plan and annual tracking for growth concludes.

• Commitment to update the EAC plan and submit to EPA in 2015.

• Commitment to annually track stationary and highway mobile source emissions Provides triggers (emissions growth thresholds and rates) and actions (air quality analyses, modeling and adopting additional controls) to be performed to address emission growth.

• Based on the tracking of the growth of stationary source emissions, the maintenance plan commits to adopt and implement additional control measures, if needed, throughout the maintenance period.

• Commitment to perform air quality analyses reviews and report each December.

• Commitments for tracking and taking follow-up actions are in force unless the 8-hour ozone standard is revoked in the future. South Carolina believes that would happen only in the event that EPA revises or revokes the current 8-hour ozone standard of 0.08 parts per million. To date, EPA has not proposed any revisions to the ozone NAAQS.

• Commitment to evaluate, in 2008, whether or not a full modeling update is needed for all EAC areas.

• Provides the following timeline of actions and submittals for the maintenance plan from December 2004 to December 2027.

In addition to South Carolina's maintenance plan, the Georgia modeling indicates that maintenance of the 8-hour ozone standard will likely continue beyond the 2007 attainment date for the Aiken/Augusta EAC area. For further information, refer to Appendix 17—Augusta Early Action Compact Ozone State Implementation Plan Revision of the South Carolina EAC submittal. The Georgia and South Carolina TSDs are available in the electronic public docket, RME ID No. R04-OAR-2005-GA-0001 and R04-OAR-2005-SC-0001 (see the ADDRESSES section of this notice for further information on RME).

D. What Are EPA's Conclusions on the EAC Technical Demonstration for Attainment and Maintenance?

EPA evaluation of the South Carolina and Georgia EAC modeling indicates that the South Carolina-Georgia EAC Areas will attain and maintain the 8-hour ozone standard at least until 2017. Even though the South Carolina and Georgia modeling demonstrations were independently developed using different assumptions, inventories, episodes, and models, the results were similar—consistent levels of future attainment are indicated and the future design values are below 85 ppb and within 3 ppb of each other for the Aiken/Augusta area. EPA's analysis indicates that the appropriate data and procedures were used to assess 8-hour ozone attainment for the Aiken/Augusta EAC areas, and all other South Carolina-Georgia EAC Areas. EPA's analysis moreover indicates that the combinations of local scale modeling and control strategies demonstrate attainment of the 8-hour ozone NAAQS for each South Carolina EAC area. Additional details of the South Carolina and Georgia EAC modeling are presented in the TSDs for the two state submittals.

VII. What Measures Are Included in This EAC SIP Submittal?

The South Carolina and Georgia EACs incorporate both local and statewide control measures to attain and maintain the 8-hour ozone standard. Many of the measures outlined for inclusion in the SIP are not necessary for attainment or maintenance of the 8-hour ozone standard, but are additional measures that will improve air quality and South Carolina and Georgia have committed to implementing these additional measures through the EAC program.

Some of the measures used to model attainment are federal measures (national and regional measures) such as Phase I of the NOX SIP Call, which regulates nitrogen oxides emitted from large facilities, and Tier 2 vehicle standards, which affect all passenger vehicles in a manufacturer's fleet. South Carolina's modeling also included statewide measures. As part of its commitment to cleaner air quality sooner, South Carolina promulgated amendments to Regulation 61-62, Air Pollution Control Regulations and Standards by adding regulation 61-62.5 Standard No. 5.2, Control of Oxides of Nitrogen (NOX) and revising Regulation 61-62.2—Prohibition of Open Burning. Regulation 61-62.5 Standard No. 5.2, Control of Oxides of Nitrogen (NOX) applies to new and existing stationary sources that emit NOX from fuel combustion and have not undergone a best available control technology (BACT) analysis for NOX. The regulation is designed primarily to assist with the issue of growth and is also geared toward smaller sources that fall below the applicability thresholds for prevention of significant deterioration (PSD). These are sources that, for the most part, would not otherwise be required to install NOX controls. For new sources, the regulation requires the installation of control technology that is based on BACT standards found in the national RACT/BACT/LAER clearinghouse. For existing sources, the regulation only applies when an applicable unit replaces its burner. At this point, the facility would be required to replace the burner with a low NOX burner or equivalent technology capable of achieving at least a 30 percent reduction from uncontrolled levels.

The second statewide measure is additional restrictions on open burning. Regulation 61-62.2, Prohibition of Open Burning has been revised and deletes the exception for the burning of household trash and allows for certain residential construction waste to be burned only outside of the ozone season of April 1 through October 30. Therefore only certain types of “clean” wastes can be burned year round. A detailed description of the estimated NOX reductions can be found in Appendix 13—Estimated Emissions Reductions Achieved by R.61-62.2, Prohibition of Open Burning, and by R.61-62.5, Control of Oxides of Nitrogen and in Appendix 16—County Level Emission Reductions and Descriptions for the Ozone Early Action Compact Areas, as part of the county level emission reductions for the EAC areas. These regulations will be applicable statewide and have also been submitted to EPA for incorporation into the SIP. Once approved, these regulations will be federally enforceable.

In addition to the measures adopted statewide, the South Carolina SIP submittal also includes many local measures to be incorporated into the SIP. This occurs primarily in the nonattainment-deferred county descriptions which contains detailed local measures with estimated reductions. For all county level emissions reductions, see Appendix 16—County Level Emission Reductions and Descriptions for the Ozone Early Action Compact Areas. These measures are outlined in the table below:

County Level Emission Reductions in South Carolina EAC Nonattainment-Deferred Areas
Commitment | Implementation strategies | Emissions reduction actual or potential: NOX | Emissions reduction actual or potential: VOC | Emissions reduction actual or potential: CO
SC 61-62.5, Std. 5.2, “Control of Oxides Nitrogen”—New State Regulation | SIP (federal and State) | 2,913 tonsᵇ | Not avail. | Not avail.
SC 61-62.2, “Prohibition of Open Burning—Modified State Regulation (PM reductions as well) | SIP (federal and state) | 147 tonsᶜ | 698 tons | Not avail.
Smart Highways—Modified version of Transportation Conformity (deferred areas) | N/A (federal upon final SIP approval) | 0 | 0 | 0
Voluntary permit limit by SCE & G—Wateree (Richland County) | Through the MOA until modification of the Title V permit, then enforceable through the permit (federal and state) | 40% red. | 0 | 0
Voluntary permit reduction of 1,000 tons by International Paper (Richland) | Through the MOA until modification of the Title V permit, then enforceable through the permit (federal and state) | 0 | 0 | 0
Voluntary control equipment installation at Duke Power—Installation of advanced low NOX burners on Units 1 and 2. Changes will result in emission limits reducing from 0.40lb/MMBtu to 0.24lb/MMBtu(Anderson) | Federal and state (Permit) | 850 tons | Not avail. | Not avail.
Voluntary early installation of control equipment at Transco Pipeline—Operating Permit 2060-0179. Transco has 14 natural gas fired internal combustion (IC) engines that collectively accounted for 3,822 tons of ozone season NOX emissions in 1997. Transco has submitted a construction permit application to put on NOX controls that will result in 1,261 tons of ozone season NOX emissions. The permit was approved on April 27, 2004 | Federal and state (Permit) | 2,561 tons | Not avail. | Not avail.
Truck Stop Electrification Project (Anderson) 51 spaces were outfitted with Idle Aire Technology | Federal and state (MOA) | 36.2 tons | 1.84 tons | 15.3 tons.
School Bus Retrofit Project (Anderson) Approximately 23 diesel buses will be retrofitted with particulate filters during 2006. | Federal and state (MOA) | 0 | 391 lbs | 2,737 lbs.
School Bus Retrofit Project (Greenville) Approximately 47 diesel buses will be retrofitted with particulate filters during 2006. | Federal and state (MOA) | 0 | 799 lbs | 5,593 lbs.
School Bus Retrofit Project (Spartanburg) Approximately 20 diesel buses will be retrofitted with particulate filters during 2006. | Federal and state (MOA) | 0 | 340 lbs | 2,380 lbs.
School Bus Retrofit Project (Lexington) Approximately 28 diesel buses will be retrofitted with particulate filters during 2006. | Federal and state (MOA) | 0 | 476 lbs | 3,332 lbs.
School Bus Retrofit Project (Richland) Approximately 21 diesel buses will be retrofitted with particulate filters during 2006. | Federal and state (MOA) | 0 | 357lbs | 2,499 lbs.
Gas Can Exchange Events—115 cans were exchanged (Greenville) | N/A (federal upon final SIP approval) | 0 | 711lbs | 0.
Gas Can Exchange Events—250 cans were distributed (Lexington and Richland) | N/A (federal upon final SIP approval) | 0 | 823 lbs | 0.
Improvements to Park and Ride lot at Highway 378 and I-20 (Lexington) | County | 476 lbs | 924 lbs | 7,297 lbs.
Conversion of Commercial Vehicle Fleet to Propane—(Lexington) | N/A (federal upon final SIP approval) | 1,638 lbs | 1,300 lbs | 8,244 lbs.
Biodiesel Buses, University of South Carolina. (Richland) | N/A (federal upon final SIP approval) | 25 lbs | 12 lbs | 34 lbs.
University of South Carolina Ethanol Project (Richland) | N/A (federal upon final SIP approval) | 18 lbs | 19 lbs | 1,250 lbs.
Take a Break from the Exhaust program (Lexington, Newberry, Kershaw, and Richland) | State | 393 lbs | 568 lbs | 5,494 lbs.
SC DHEC has a number of flex fuel vehicles that run almost exclusively on E85. (Richland) | N/A (federal upon final SIP approval) | 103 lbs | 104 lbs | 6,030 lbs.
Ethanol (E85) refueling station for public (Richland) | N/A (federal upon final SIP approval) | 621 lbs | 162 lbs | 2,369 lbs.
Smart Ride—Mass Transit Program (Lexington, Newberry, Kershaw, and Richland) | N/A (federal upon final SIP approval) | 207 lbs | 153 lbs | 3,166 lbs.
Totals from SC's Ozone Early Action Program | 6,522 Tons | 703 Tons | 36 Tons
ᵇ Potential reductions.
ᶜ The anticipated reductions noted here are from the ban imposed on the burning of residential construction waste only. Further reductions are expected to result from other revisions to the Open Burning regulation that are more difficult to quantify. For instance, the burning of household trash generates 2,379 tons of NOX and 11,896 tons of VOCs annually. The revision to the regulation that occurred through this process closed a loophole that had allowed household trash to be burned under certain circumstances. While it is not clear the exact amount of reductions that will result from this revision, it is certain that additional reductions in both NOX and VOCs will occur.

In addition to measures being implemented throughout the state of South Carolina, similar measures in the state of Georgia are likely to positively impact air quality in the Lower Savannah (Aiken/Augusta) EAC area. There are two counties in Georgia, Richmond and Columbia, participating in the Early Action Compact Program as a part of the Upper Savannah area. Georgia has statewide control measures that will be implemented and they are an open burning ban during the ozone season and Stage I Vapor Recovery. In addition to the open burning bans and Stage I Vapor Recovery measures, Richmond County and the City of Augusta may be pursuing a number of local measures, such as distributing information at public meetings about air quality and the impact of air pollution on human health, implementing projects in the regional bicycle and pedestrian plan, and smog alerts. A more detailed list of control measures under consideration was submitted with the December 2003 milestone report. Attachment B of the Georgia (Augusta) EAC SIP submittal contains a copy of a resolution of support for the Augusta EAC that the Augusta/Richmond Council adopted on April 20, 2004. The Georgia EPD has not incorporated any quantitative emission reductions from any current or planned local measures into the demonstration contained in this SIP.

VIII. What Happens if the Area Does Not Meet the EAC Commitments or Milestones?

In the April 30, 2004, (69 FR 23858) Final Rulemaking, EPA designated the counties of Anderson, Greenville, and Spartanburg, and partial counties of Lexington and Richland as nonattainment-deferred for the 8-hour ozone standard. In accordance with the April 30, 2004, (69 FR 23858) Final Rulemaking, the effective date of nonattainment for these counties in the EAC areas of Appalachian and Central Midlands, respectively, (see Section V) has been deferred until September 30, 2005. The measures outlined in the South Carolina and Georgia EAC SIP submittals provide every indication that the South Carolina-Georgia EAC Areas will attain the 8-hour ozone standard by December 31, 2007 and complete each milestone and action agreed upon in the compact. However, if one milestone is missed, EPA will take action to propose and promulgate a finding of failure to meet the milestone, and to withdraw the deferred effective date of the nonattainment designation.

IX. Why Are We Proposing To Approve This EAC SIP Submittal?

We are proposing to approve this EAC SIP submittal because the SIP submittals demonstrate attainment of the 8-hour ozone standard by December 31, 2007, and maintenance of that standard through 2017 in South Carolina and 2012 for Georgia. We have reviewed the submittals and determined that they are consistent with the requirements of the Act, EPA's policy, and the EAC Protocol. The TSDs for each state contain additional and more detailed information concerning this proposed action.

Approving the EAC submittals into the SIP will also mean that measures and controls identified therein become federally enforceable and the ten South Carolina-Georgia EAC Areas' citizens will start to benefit from reductions in air pollution earlier than the statutory deadlines. See Section VII of this proposal for the description of air pollution control measures. Finally, it means that EPA has determined that the EAC areas have continued to fulfill the milestones and obligations of the EAC Program. In a separate action, EPA will take action proposing to defer the effective date of nonattainment designation for these areas until December 31, 2006, so long as the areas continue to fulfill the EAC obligations, including semi-annual reporting requirements, implementation of the measures in the EAC submittal by December 31, 2005, and a progress assessment by June 30, 2006.

X. Proposed Action

EPA is proposing to approve the attainment demonstration and the South Carolina-Georgia EACs of Appalachian, Catawba, Pee Dee, Waccamaw, Santee Lynches, Berkeley-Charleston-Dorchester, Low Country, Lower Savannah, Central Midlands, and Upper Savannah areas and incorporate these into the South Carolina and Georgia SIPs. The modeling of ozone concentrations and ozone precursor emissions from sources in the 47 counties within the South Carolina-Georgia EAC Areas demonstrate that the specified control strategies will provide for attainment of the 8-hour ozone NAAQS by December 31, 2007. These specified control strategies are consistent with the EAC program.

XI. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state actions, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects 40 CFR Part 52

Environmental protection, Air pollution control, Intergovernmental relations, Nitrogen dioxide, Ozone, Reporting and recordkeeping requirements, Volatile organic compounds.

Authority: 42 U.S.C. 7401 et seq.

Dated: May 18, 2005.
J.I. Palmer, Jr.,
Regional Administrator, Region 4.

[FR Doc. 05-10475 Filed 5-25-05; 8:45 am]

BILLING CODE 6560-50-P